NATIONAL WOMEN'S BUSINESS COUNCIL

Notice of Public Meeting

In accordance with the Women's Business Ownership Act, Public Law 106-554 as amended, the National Women's Business Council (NWBC) would like to announce a forthcoming Council meeting. The meeting will introduce the National Women's Business Council's agenda and action items for fiscal year 2003 included but not limited to procurement, access to capital, access to training and technical assistance, access to markets and affordable health care. The meeting will be held Tuesday, February 11, 2003 at the U.S. Small Business Administration located at 409 Third Street, SW, Washington, DC. The meeting will be conducted in the Eisenhower Conference Room B, 2nd Floor at 1 pm to 4 pm. This meeting is opened to the public. (Attendance by RSVP only). Anyone wishing to attend or make an oral presentation at the meeting must contact Gilda Presley, no later than Monday, February 3, 2003 at 202/205-6695.

Candace Stoltz,
Director of Advisory Councils.

[FR Doc. 03-2206 Filed 1-27-03; 2:42 pm]

BILLING CODE 8025-01-M